ENVIRONMENTAL PROTECTION AGENCY

40 CFR Part 140

[FRL-7043-1]

Extension of Comment Period for Proposed Rule To Establish a No Discharge Zone (NDZ) for State Waters Within the Boundaries of the Florida Keys National Marine Sanctuary (FKNMS)

AGENCY: Environmental Protection Agency (EPA).

ACTION: Proposed rule; extension of comment period.

SUMMARY: EPA is proposing to establish a NDZ for State Waters within the boundaries of the FKNMS pursuant to section 312(f)(4)(A) of the Clean Water Act. This proposed rule was published in the Federal Register on July 26, 2001 (66 FR 38967-38969). In response to concerns from the boating community, the comment period for this action will be extended for an additional 60 days, from August 27, 2001, to October 26, 2001.

DATES: Comments must now be submitted to EPA on or before October 26, 2001.

ADDRESSES: Written comments or requests for information may be submitted to Wesley B. Crum, Chief, Coastal Section, EPA Region 4, 61 Forsyth Street, Atlanta, Georgia 30303-8960.

FOR FURTHER INFORMATION CONTACT: Wesley B. Crum at (404) 562-9352.

A. Stanley Meiburg,
Acting Regional Administrator, Region 4.

[FR Doc. 01-21445 Filed 8-23-01; 8:45 am]

BILLING CODE 6560-50-P